DEPARTMENT OF COMMERCE

International Trade Administration

[C-489-845]

Certain Aluminum Foil From the Republic of Türkiye: Final Results and Partial Rescission of the Countervailing Duty Administrative Review; 2021

AGENCY: Enforcement and Compliance, International Trade Administration, Department of Commerce.

SUMMARY: The U.S. Department of Commerce (Commerce) determines that ASAS Aluminyum Sanayi ve Ticaret A.S. (ASAS) and Assan Aluminyum Sanayi ve Ticaret A.S. (Assan) received countervailable subsidies during the period of review (POR) March 5, 2021, through December 31, 2021.

DATES: Applicable June 10, 2024.

FOR FURTHER INFORMATION CONTACT: Adam Simons, AD/CVD Operations, Office IX, Enforcement and Compliance, International Trade Administration, U.S. Department of Commerce, 1401 Constitution Avenue NW, Washington, DC 20230; telephone: (202) 482-6172.

SUPPLEMENTARY INFORMATION:

Background

Commerce published the Preliminary Results of this administrative review on December 7, 2023.¹ In January and February 2024, Commerce conducted an on-site verification of ASAS' reported subsidy information.² On March 26, 2024, Commerce extended the deadline for issuing the final results until June 4, 2024.³ Subsequently, on April 5, 2024, we invited interested parties to comment on the Preliminary Results and verification.⁴ For a description of the events that occurred since the Preliminary Results, see the Issues and Decision Memorandum.⁵

¹ See Certain Aluminum Foil from Turkey: Preliminary Results of Countervailing Duty Administrative Review, 88 FR 85228 (December 7, 2023) (Preliminary Results), and accompanying Preliminary Decision Memorandum.

² See Memorandum, “Verification of the Questionnaire Responses of Asas Aluminyum Sanayi Ve Ticaret A.Ş.,” dated April 4, 2024.

³ See Memorandum, “Extension of Deadlines for 2021 Final Results of Countervailing Duty Administrative Review,” dated March 26, 2024.

⁴ See Memorandum, “Clarification of Briefing Schedule,” dated April 5, 2024.

⁵ See Memorandum, “Decision Memorandum for the Final Results of the Countervailing Duty Administrative Review of Certain Aluminum Foil from the Republic of Türkiye; 2021,” dated concurrently with, and hereby adopted by, this notice (Issues and Decision Memorandum).

Scope of the Order ⁶

⁶ See Certain Aluminum Foil from the Sultanate of Oman and the Republic of Turkey: Countervailing Duty Orders, 86 FR 62782 (November 12, 2021) (Order).

The merchandise covered by this Order is aluminum foil from Türkiye. For a complete description of the scope of this Order, see the Issues and Decision Memorandum.

Analysis of Comments Received

All issues raised in interested parties' case briefs are addressed in the Issues and Decision Memorandum. The topics discussed and the issues raised by parties to which we responded in the Issues and Decision Memorandum are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Rescission of Administrative Review, In Part

As noted in the Intent to Rescind Memorandum,⁷ based on our analysis of U.S. Customs and Border Protection (CBP) data, we determine that Ilda Pack Ambalaj, John Good Denizcilik Tas.Ve, and Seherli Danismanlik A.S had no reviewable shipments, sales, or entries of subject merchandise during the POR. We received no comments or additional information from any interested parties regarding the Intent to Rescind Memorandum issued regarding these three companies. Therefore, absent evidence of shipments on the record, we are rescinding the administrative review of these companies, pursuant to 19 CFR 351.213(d)(3).

⁷ See Memorandum, “Notice of Intent to Rescind Review, In Part,” dated April 5, 2024 (Intent to Rescind Memorandum).

Changes Since the Preliminary Results

Based on our analysis of comments from interested parties and the results of verification, we made certain changes to ASAS' and Assan's countervailable subsidy rate calculations from the Preliminary Results. For a full description of these changes, see the Issues and Decision Memorandum.

Methodology

Commerce conducted this review in accordance with section 751(a)(1)(A) of the Tariff Act of 1930, as amended (the Act). For each of the subsidy programs found countervailable, we find that there is a subsidy, i.e., a government-provided financial contribution that gives rise to a benefit to the recipient, and that the subsidy is specific.⁸ For a description of the methodology underlying all of Commerce's conclusions, see the Issues and Decision Memorandum.

⁸ See sections 771(5)(B) and (D) of the Act regarding financial contribution; section 771(5)(E) of the Act regarding benefit; and section 771(5A) of the Act regarding specificity.

Company Not Selected for Individual Review

The Act and Commerce's regulations do not address the establishment of a rate to be applied to companies not selected for individual examination when Commerce limits its examination in an administrative review, pursuant to section 777A(c)(2) of the Act. Generally, Commerce looks to section 705(c)(5) of the Act, which provides instructions for determining the all-others rate in an investigation, for guidance when calculating the rate for companies which were not selected for individual examination in an administrative review. Under section 705(c)(5)(A) of the Act, the all-others rate is normally an amount equal to the weighted average of the countervailable subsidy rates established for exporters and producers individually investigated, excluding any zero or de minimis countervailable subsidy rates, and any rates determined entirely on the basis of facts available.

There is one company, Panda Aluminyum, for which a review was requested, but which was not selected as a mandatory respondent or found to be cross-owned with a mandatory respondent. For Panda Aluminyum, because the rates calculated for mandatory respondents ASAS and Assan were above de minimis and not based entirely on facts available, we applied a final subsidy rate based on a simple average of the rates calculated for the two mandatory respondents.

Final Results of Review

We determine that, for the period March 5, 2021, through December 31, 2021, the following total net countervailable subsidy rates exist:

Producer/exporter | Subsidy rate (percent ad valorem)
ASAS Aluminyum Sanayi ve Ticaret A.S | 0.50
Assan Aluminyum Sanayi ve Ticaret A.S.⁹ | 1.15
Panda Aluminyum | 0.83

Disclosure

⁹ Commerce finds the following companies to be cross-owned with Assan: Kibar Dış Ticaret A.S.; Kibar Holding A.S.; and Ispak Esnek Ambalaj Sanayi A.S.

Commerce intends to disclose the calculations performed for these final results of review within five days after the date of publication of this notice in the Federal Register, in accordance with 19 CFR 351.224(b).

Assessment

Pursuant to section 751(a)(2)(C) of the Act and 19 CFR 351.212(b)(2), Commerce has determined, and CBP shall assess, countervailing duties on all appropriate entries of subject merchandise in accordance with the final results of this review, for the above-listed companies at the applicable ad valorem assessment rates listed. For the companies for which we are rescinding this administrative review, Commerce will instruct CBP to assess countervailing duties on all appropriate entries at a rate equal to the cash deposit of estimated countervailing duties required at the time of entry, or withdrawal from warehouse, for consumption, during the period March 5, 2021, through December 31, 2021, in accordance with 19 CFR 351.212(c)(l)(i).

Commerce intends to issue assessment instructions to CBP no earlier than 35 days after the date of publication of these final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce intends to instruct CBP to collect cash deposits of estimated countervailing duties in the amounts shown for the companies listed above on shipments of the subject merchandise entered, or withdrawn from warehouse for consumption on or after the date of publication of the final results of this administrative review. For all non-reviewed firms, we will instruct CBP to continue to collect cash deposits of estimated countervailing duties at the all-others rate or most recent company-specific rate applicable to the company, as appropriate. These cash deposits, effective upon publication of these final results of this review, shall remain in effect until further notice.

Administrative Protective Order

This notice also serves as a final reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

These final results are issued and published in accordance with sections 751(a)(1) and 777(i)(1) of the Act, and 19 CFR 351.221(b)(5).

Dated: June 4, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Subsidies Valuation

V. Analysis of Programs

VI. Discussion of the Issues

Comment 1: Whether To Exclude Kibar Dis' By-Pass Sales From Its Sales Denominator

Comment 2: Whether to Make Certain Adjustments to Assan's Sales Denominators

Comment 3: Whether the Unemployment Insurance Premium Incentive Under Additional Article 4 of Law No. 4447 is a Countervailable Subsidy

Comment 4: Whether Commerce Should Rely on Assan's Provided Loan Benchmark

Comment 5: Whether To Revise Certain Benefit Calculations for ASAS

Comment 6: Whether to Find the Exemptions on Banking and Insurance Transaction Tax Program Countervailable

VII. Recommendation

[FR Doc. 2024-12654 Filed 6-7-24; 8:45 am]

BILLING CODE 3510-DS-P